DEPARTMENT OF ENERGY

Federal Energy Regulatory Commission

Combined Notice of Filings #1

Take notice that the Commission received the following exempt wholesale generator filings:

Docket Numbers: EG19-15-000.

Applicants: Lockett Windfarm LLC.

Description: Self-Certification of Exempt Wholesale Generator Status of Lockett Windfarm LLC.

Filed Date: 11/1/18.

Accession Number: 20181101-5221.

Comments Due: 5 p.m. ET 11/23/18.

Take notice that the Commission received the following electric rate filings:

Docket Numbers: ER19-242-000.

Applicants: PJM Interconnection, L.L.C.

Description: Tariff Cancellation: Notice of Cancellation of WMPA SA No. 3411; Queue No. W4-029 & Y1-075 to be effective 10/31/2018.

Filed Date: 10/31/18.

Accession Number: 20181031-5241.

Comments Due: 5 p.m. ET 11/21/18.

Docket Numbers: ER19-247-000.

Applicants: Entergy Arkansas, Inc., Entergy Mississippi, Inc., Entergy New Orleans, LLC, Entergy Texas, Inc., Entergy Louisiana, LLC.

Description: § 205(d) Rate Filing: E-RSC Rate Schedule to be effective 1/1/2019.

Filed Date: 11/1/18.

Accession Number: 20181101-5060.

Comments Due: 5 p.m. ET 11/23/18.

Docket Numbers: ER19-263-000.

Applicants: PJM Interconnection, L.L.C.

Description: § 205(d) Rate Filing: AMPT/PJM submits revisions to OATT re: new Att H to add Formula Rate/Protocols to be effective 1/1/2019.

Filed Date: 11/1/18.

Accession Number: 20181101-5152.

Comments Due: 5 p.m. ET 11/23/18.

Docket Numbers: ER19-264-000.

Applicants: Mid-Atlantic Interstate Transmission, LLC, PJM Interconnection, L.L.C.

Description: § 205(d) Rate Filing: MAIT submits one ECSA, Service Agreement No. 5194 to be effective 1/1/2019.

Filed Date: 11/1/18.

Accession Number: 20181101-5158.

Comments Due: 5 p.m. ET 11/23/18.

Docket Numbers: ER19-265-000.

Applicants: DATC Path 15, LLC.

Description: § 205(d) Rate Filing: Revised Appendix I 2019 to be effective 1/1/2019.

Filed Date: 11/1/18.

Accession Number: 20181101-5161.

Comments Due: 5 p.m. ET 11/23/18.

Docket Numbers: ER19-266-000.

Applicants: Invenergy Nelson LLC.

Description: Initial rate filing: Filing of Reactive Power Rate Schedule to be effective 12/1/2018.

Filed Date: 11/1/18.

Accession Number: 20181101-5162.

Comments Due: 5 p.m. ET 11/23/18.

Docket Numbers: ER19-267-000.

Applicants: Arizona Public Service Company.

Description: § 205(d) Rate Filing: Rate Schedule No. 217, Exhibit B.BKE-LIB to be effective 12/31/2018.

Filed Date: 11/1/18.

Accession Number: 20181101-5169.

Comments Due: 5 p.m. ET 11/23/18.

Docket Numbers: ER19-268-000.

Applicants: Minco IV & V Interconnection, LLC.

Description: Baseline eTariff Filing: Minco Interconnection IV & V, LLC Shared Facilities Agreement to be effective 11/2/2018.

Filed Date: 11/1/18.

Accession Number: 20181101-5174.

Comments Due: 5 p.m. ET 11/23/18.

Docket Numbers: ER19-269-000.

Applicants: Westar Energy, Inc.

Description: § 205(d) Rate Filing: Amendment to Fixed Depreciation Rates, TFR, Actual Gross Rev and A-8 to be effective 1/1/2019.

Filed Date: 11/1/18.

Accession Number: 20181101-5179.

Comments Due: 5 p.m. ET 11/23/18.

Docket Numbers: ER19-270-000.

Applicants: PJM Interconnection, L.L.C.

Description: § 205(d) Rate Filing: Amendment to WMPA SA No. 4953; Queue No. AC2-074 to be effective 2/21/2018.

Filed Date: 11/1/18.

Accession Number: 20181101-5182.

Comments Due: 5 p.m. ET 11/23/18.

Docket Numbers: ER19-271-000.

Applicants: Otter Tail Power Company.

Description: § 205(d) Rate Filing: Submission of Operating Services Agreement No. 54 to be effective 1/1/2019.

Filed Date: 11/1/18.

Accession Number: 20181101-5196.

Comments Due: 5 p.m. ET 11/23/18.

Docket Numbers: ER19-272-000.

Applicants: Nevada Power Company.

Description: § 205(d) Rate Filing: Rate Schedule No. 164 NPC/SCEC Concurrence El Dorado/Harry Allen to be effective 10/23/2018.

Filed Date: 11/1/18.

Accession Number: 20181101-5197.

Comments Due: 5 p.m. ET 11/23/18.

Docket Numbers: ER19-273-000.

Applicants: Alabama Power Company.

Description: § 205(d) Rate Filing: Twiggs County Solar (Twiggs Solar) LGIA Amendment Filing to be effective 10/26/2018.

Filed Date: 11/2/18.

Accession Number: 20181102-5059.

Comments Due: 5 p.m. ET 11/23/18.

Docket Numbers: ER19-274-000.

Applicants: TG High Prairie, LLC.

Description: Baseline eTariff Filing: MBR Application to be effective 1/2/2019.

Filed Date: 11/2/18.

Accession Number: 20181102-5061.

Comments Due: 5 p.m. ET 11/23/18.

Take notice that the Commission received the following qualifying facility filings:

Docket Numbers: QF19-258-000.

Applicants: KapStone Charleston Kraft, LLC.

Description: Form 556 of KapStone Charleston Kraft, LLC under QF19-258.

Filed Date: 11/1/18.

Accession Number: 20181101-5147.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2018.
Nathaniel J. Davis, Sr.,
Deputy Secretary.

[FR Doc. 2018-24534 Filed 11-8-18; 8:45 am]

BILLING CODE 6717-01-P